NUCLEAR REGULATORY COMMISSION

[Docket Nos. 50-003, 50-247, and 50-286; NRC-2022-0223]

Holtec Decommissioning International, LLC, Holtec Indian Point 2, LLC, and Holtec Indian Point 3, LLC, Indian Point Nuclear Energy Center

AGENCY: Nuclear Regulatory Commission.

ACTION: Environmental assessment and finding of no significant impact; issuance.

SUMMARY: The U.S. Nuclear Regulatory Commission (NRC) is considering issuance of exemptions that would permit the licensee to reduce its emergency planning (EP) activities at the Indian Point Nuclear Generating Unit Nos. 1, 2, and 3, collectively referred to as the Indian Point Energy Center (IPEC). Specifically, Holtec Decommissioning International, LLC (HDI), an indirect wholly owned subsidiary of Holtec International (Holtec) is seeking exemptions on behalf of Holtec Indian Point 2, LLC (“Holtec IP2”) and Holtec Indian Point 3, LLC (“Holtec IP3”), the licensees, that would eliminate the requirements to maintain formal offsite radiological emergency plans, as well as reduce the scope of some of the onsite EP activities based on the reduced risks at IPEC, which is permanently shut down and defueled. However, requirements for an onsite radiological emergency plan and for certain onsite capabilities to communicate and coordinate with offsite response authorities would be retained. In addition, offsite EP provisions would still exist through State and local government use of a comprehensive emergency management plan process, in accordance with the Federal Emergency Management Agency's (FEMA's) Comprehensive Preparedness Guide (CPG) 101, “Developing and Maintaining Emergency Operations Plans.” The NRC staff is issuing an Environmental Assessment (EA) and Finding of No Significant Impact (FONSI) associated with the proposed exemptions.

DATES: The EA and FONSI referenced in this document are available on October 31, 2023.

ADDRESSES: Please refer to Docket ID NRC-2022-0223 when contacting the NRC about the availability of information regarding this document. You may obtain publicly available information related to this document using any of the following methods:

• Federal Rulemaking Website: Go to https://www.regulations.gov and search for Docket ID NRC-2022-0223. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, at 301-415-4737, or by email to PDR.Resource@nrc.gov. For the convenience of the reader, instructions about obtaining materials referenced in this document are provided in the “Availability of Documents” section of this document.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

FOR FURTHER INFORMATION CONTACT: Karl Sturzebecher, Office of Nuclear Material Safety and Safeguards, U.S. Nuclear Regulatory Commission, Washington, DC 20555-0001, telephone: 301-415-8534, email: Karl.Sturzebecher@nrc.gov.

SUPPLEMENTARY INFORMATION:

I. Introduction

By letter dated February 8, 2017, in accordance with sections 50.4(b)(8) and 50.82(a)(1)(i) to title 10 of the Code of Federal Regulations (10 CFR) part 50, “Domestic Licensing of Production and Utilization Facilities,” Entergy Nuclear Operations, Inc., Entergy Nuclear Indian Point 2, LLC, and Entergy Nuclear Indian Point 3, LLC (the IPEC licensees at that time, collectively, Entergy) notified the NRC that they had decided to permanently cease power operations at the Indian Point Nuclear Generating Unit No. 2 (IP2) by April 30, 2020, and at the Indian Point Nuclear Generating Unit No. 3 (IP3) by April 30, 2021.

Pursuant to 10 CFR 50.82(a)(1)(ii), by letters dated May 12, 2020, and May 11, 2021, Entergy certified to the NRC that the fuel had been permanently removed from the IP2 and IP3 reactor vessels and placed in the IP2 and IP3 spent fuel pools (SFPs). Upon the docketing of these certifications, under 10 CFR 50.82(a)(2), the IP2 and IP3 licenses no longer authorize operation of the reactors or emplacement or retention of fuel into the reactor vessels. The spent fuel from IP2 and IP3 is stored in the SFPs and in dry cask storage at the onsite independent spent fuel storage installation (ISFSI) until it is shipped offsite.

Indian Point Nuclear Generating Unit No. 1 (IP1) permanently ceased operations on October 31, 1974, and all fuel was removed from the IP1 reactor vessel by January 1976. In 1996, the NRC issued an Order approving the safe-storage condition of IP1. In 2003, the NRC issued Amendment No. 52 to IP1's provisional operating license that changed the license's expiration date to be consistent with that of the IP2 license at that time. Pursuant to 10 CFR 50.82(a)(2), the IP1 license no longer authorizes operation of the reactor or emplacement or retention of fuel into the reactor vessel. There is no IP1 spent fuel in wet storage at the IPEC site; IP1 spent fuel is stored onsite in dry cask storage in an ISFSI.

By Order dated November 23, 2020, the NRC approved a transfer of the IP licenses from Entergy to Holtec Decommissioning International, LLC, Holtec IP2, LLC (which became the licensee of IP1 and IP2), and Holtec IP3, LLC (which became the licensee of IP3). By letter dated December 22, 2021, as supplemented by letters dated February 1, 2022, February 2, 2022, and May 12, 2022, HDI, who conducts the decommissioning operating services on behalf of Holtec IP2 and Holtec IP3, requested exemptions from specific portions of 10 CFR 50.47, “Emergency plans,” and appendix E, “Emergency Planning and Preparedness for Production and Utilization Facilities,” to 10 CFR part 50 for the IPEC licenses. More specifically, HDI requested exemptions from certain planning standards in 10 CFR 50.47(b) regarding onsite and offsite radiological emergency preparedness (REP) plans for nuclear power reactors; from certain requirements in 10 CFR 50.47(c)(2) for establishment of plume exposure pathway and ingestion pathway emergency planning zones (EPZs) for nuclear power reactors; and from certain requirements in 10 CFR part 50, appendix E, section IV, “Content of Emergency Plans.”

HDI's requested exemptions would eliminate the NRC requirements to maintain formal offsite REP plans in accordance with 44 CFR, “Emergency Management and Assistance,” part 350, “Review and Approval of State and Local Radiological Emergency Plans and Preparedness,” and would reduce the scope of the onsite EP activities at IPEC. HDI based its request on the reduced risks of an offsite radiological release at IPEC after permanent cessation of power operations and all spent fuel has decayed for at least 15 months. The exemptions would maintain the requirements for an onsite radiological emergency plan and would continue to ensure the capability to communicate and coordinate with offsite response authorities.

The EP requirements of 10 CFR 50.47 and appendix E to 10 CFR part 50 do not distinguish between operating reactors and those that have ceased operations and defueled. As such, a permanently shut down and defueled reactor must continue to maintain the same EP requirements as an operating power reactor under the existing regulatory requirements. To establish a level of EP commensurate with the reduced risks of a permanently shut down and defueled reactor, the licensee must seek exemptions from certain EP regulatory requirements before it can change its emergency plans.

The NRC is therefore considering issuing to the licensee the proposed exemptions from portions of 10 CFR 50.47 and appendix E to 10 CFR part 50, which would eliminate the requirements for the licensee to maintain offsite radiological emergency plans and reduce some of the onsite EP activities based on the reduced radiological risks as IPEC has permanently ceased power operations and all spent fuel has decayed for more than 15 months.

Consistent with 10 CFR 51.21, “Criteria for and identification of licensing and regulatory actions requiring environmental assessments,” the NRC has determined that an EA is the appropriate form of environmental review for the requested action. Based on the results of the EA, which is provided in Section II of this document, the NRC has determined not to prepare an environmental impact statement for the proposed action and is issuing a FONSI.

II. Environmental Assessment

Description of the Proposed Action

The proposed action would exempt the licensee from: (1) certain standards as set forth in 10 CFR 50.47(b) regarding onsite and offsite emergency response plans for nuclear power reactors; (2) requirements in 10 CFR 50.47(c)(2) to establish plume exposure and ingestion pathway EPZs for nuclear power reactors; and (3) certain requirements in 10 CFR part 50, appendix E, section IV, which establishes the elements that make up the content of emergency plans. The proposed action of granting these exemptions would eliminate the NRC requirements for the licensee to maintain offsite radiological emergency plans in accordance with 44 CFR part 350 and reduce some of the onsite EP activities at IPEC. However, requirements for certain onsite capabilities to communicate and coordinate with offsite response authorities would be retained.

Additionally, if necessary, offsite protective actions could still be implemented using a comprehensive emergency management plan (CEMP) process. A CEMP in this context, also referred to as an emergency operations plan, is addressed in FEMA's CPG 101. The CPG 101 is the foundation for State, territorial, Tribal, and local EP in the United States under the National Preparedness System. It promotes a common understanding of the fundamentals of risk-informed planning and decision making and assists planners at all levels of government in their efforts to develop and maintain viable, all-hazards, all-threats emergency plans. A CEMP is flexible enough for use in all emergencies. It describes how people and property will be protected; details who is responsible for carrying out specific actions; identifies the personnel, equipment, facilities, supplies, and other resources available; and outlines how all actions will be coordinated. A CEMP is often referred to as a synonym for “all-hazards” planning. The proposed action is in accordance with the licensee's exemption request dated December 22, 2021, as supplemented by letters dated February 1, 2022, February 2, 2022, and May 12, 2022.

Need for the Proposed Action

The proposed action is needed for the licensee to revise the IPEC Emergency Plan. Since the certifications for permanent cessation of operations and permanent removal of fuel from the reactor vessels have been docketed, pursuant to 10 CFR 50.82(a)(2), the IPEC licenses no longer authorize use of the facility for power operation or emplacement or retention of fuel into the reactor vessels and, therefore, the occurrence of postulated accidents associated with IPEC reactor operation is no longer credible. As the EP requirements do not distinguish between operating reactors and a power reactor that has been permanently shut down and defueled, the licensee requests an exemption from certain EP requirements commensurate with the radiological risks at the site.

In its exemption request, the licensee identified three possible design-basis accidents (DBAs) at IPEC in its permanently shut down and defueled condition. These are: (1) a fuel handling accident in the fuel storage buildings; (2) an accidental release of waste gas; and (3) an accidental release of waste liquid. The licensee also considered the consequences of a beyond DBA involving a complete loss of SFP water inventory and no accompanying heat loss (i.e., adiabatic heat up). The NRC staff evaluated these possible radiological accidents, as well as the associated analyses provided by the licensee, in the Commission Paper (SECY) 22-0102, “Request by Holtec Decommissioning International, LLC for Exemptions from Certain EP Requirements for the Indian Point Nuclear Generating Unit Nos. 1, 2, and 3,” dated November 18, 2022.

In SECY-22-0102, the NRC staff verified that the licensee's analyses and calculations provided reasonable assurance that if the requested exemptions were granted, then: (1) for a DBA, an offsite radiological release will not exceed the early phase protective action guides (PAGs) at the exclusion area boundary, as detailed in Table 1-1, “Summary Table for PAGs, Guidelines, and Planning Guidance for Radiological Incidents,” to the EPA's “PAG Manual: Protective Action Guides and Planning Guidance for Radiological Incidents,” EPA-400/R-17/001, dated January 2017; (2) in the highly unlikely event of a beyond DBA resulting in a loss of all SFP cooling, there is sufficient time to initiate appropriate mitigating actions; and (3) in the event a radiological release has or is projected to occur, there would be sufficient time for offsite agencies to take protective actions using a CEMP to protect the health and safety of the public if offsite governmental officials determine that such action is warranted. The Commission approved the NRC staff's recommendation to grant the exemptions based on this evaluation in its Staff Requirements Memorandum to SECY-22-0102, dated October 24, 2023.

Based on the licensee's analyses and reduced radiological risks, the licensee states that complete application of the EP regulations to IPEC 15 months after its permanent cessation of power operations would not serve the underlying purpose of the regulations or is not necessary to achieve the underlying purpose of the regulations. The licensee also states that it would incur undue costs in the application of operating plant EP requirements for the maintenance of an emergency response organization in excess of that actually needed to respond to the diminished scope of credible accidents for IPEC 15 months after its permanent cessation of power operations.

Environmental Impacts of the Proposed Action

The NRC staff has completed its evaluation of the environmental impacts of the proposed action.

The proposed action consists mainly of changes related to the elimination of NRC requirements for the licensee to maintain offsite radiological emergency plans in accordance with 44 CFR part 350 and reduce some of the onsite EP activities at IPEC, based on the reduced risks once the reactor has been permanently shut down for a period of 15 months. However, requirements for certain onsite capabilities to communicate and coordinate with offsite response authorities will be retained and offsite EP provisions to protect public health and safety will still exist through State and local government use of a CEMP.

With regard to potential nonradiological environmental impacts, the proposed action would have no direct impacts on land use or water resources, including terrestrial and aquatic biota, as it involves no new construction, land disturbance, or modification of plant operational systems. There would be no changes to the quality or quantity of nonradiological effluents and no changes to the plants' National Pollutant Discharge Elimination System permits would be needed. In addition, there would be no noticeable effect on socioeconomic conditions in the region, no environmental justice impacts, no air quality impacts, and no impacts to historic and cultural resources from the proposed action. Therefore, there are no significant nonradiological environmental impacts associated with the proposed action.

With regard to potential radiological environmental impacts, the proposed action would not significantly increase the probability or consequences of radiological accidents. Additionally, the NRC staff has concluded that the proposed action would have no direct radiological environmental impacts. There would be no change to the types or amounts of radioactive effluents that may be released and, therefore, no change in occupational or public radiation exposure from the proposed action. Moreover, no changes would be made to plant buildings or to the site property from the proposed action. For these reasons, there are no significant radiological environmental impacts associated with the proposed action.

Environmental Impacts of the Alternatives to the Proposed Action

As an alternative to the proposed action, the NRC staff considered the denial of the proposed action (i.e., the “no-action” alternative). The denial of the application would result in no change in current environmental impacts. Therefore, the environmental impacts of the proposed action and the alternative action are similar.

Alternative Use of Resources

The proposed action does not involve the use of any different resources than those previously considered in the “Generic Environmental Impact Statement for License Renewal of Nuclear Plants: Regarding Indian Point Nuclear Generating Unit Nos. 2 and 3, Final Report,” NUREG-1437, Supplement 38, dated December 2010, as supplemented in June 2013 and April 2018.

Agencies or Persons Consulted

No additional agencies or persons were consulted regarding the environmental impact of the proposed action. On October 25, 2023, the State of New York representative was notified of this EA and FONSI.

State of New York Comments

By letters dated November 22, 2022, and January 6, 2023, the New York State Energy Research Development Authority, and the New York Department of Public Service along with the Indian Point Decommissioning Oversight Board, respectively submitted comments regarding the proposed exemptions. Although the comments were not specific to this EA, the NRC staff reviewed the comments and did not identify any information that was not previously considered in the preparation of this EA.

III. Finding of No Significant Impact

The licensee has proposed exemptions from: (1) certain standards in 10 CFR 50.47(b) regarding onsite and offsite emergency response plans for nuclear power reactors; (2) the requirements in 10 CFR 50.47(c)(2) to establish plume exposure and ingestion pathway EPZs for nuclear power reactors; and (3) certain requirements in 10 CFR part 50, appendix E, section IV, which establishes the elements that make up the content of emergency plans. The proposed action of granting these exemptions would eliminate the NRC requirements for the licensee to maintain offsite radiological emergency plans in accordance with 44 CFR part 350 and reduce some of the onsite EP activities at IPEC, based on the reduced risks once the reactor has been permanently shut down for a period of 15 months. However, requirements for certain onsite capabilities to communicate and coordinate with offsite response authorities will be retained and offsite EP provisions to protect public health and safety will still exist through State and local government use of a CEMP.

The NRC is considering issuing the exemptions. The proposed action would not significantly affect plant safety, would not have a significant adverse effect on the probability of an accident occurring, and would not have any significant radiological or nonradiological impacts. This FONSI is a final finding and incorporates by reference the EA in Section II of this document. Therefore, the NRC concludes that the proposed action will not have a significant effect on the quality of the human environment. Accordingly, the NRC has determined not to prepare an environmental impact statement for the proposed action.

IV. Availability of Documents

The documents identified in the following table are available to interested persons through one or more of the following methods, as indicated.

Document description | ADAMS Accession No./weblink
Federal Emergency Management Agency, “Developing and Maintaining Emergency Operations Plans,” Comprehensive Preparedness Guide (CPG) 101, Version 2.0, November 2010 | https://www.fema.gov/media-library-data/20130726-1828-25045-0014/cpg_101_comprehensive_preparedness_guide_developing_and_maintaining_emergency_operations_plans_2010.pdf.
Fleming, Jean A., Holtec Decommissioning International, LLC, letter to NRC, “Request for Exemptions from Certain Emergency Planning Requirements of 10 CFR 50.47 and 10 CFR part 50, appendix E,” dated December 22, 2021 | ML21356B693.
Fleming, Jean A., Holtec Decommissioning International, LLC, letter to NRC, “Supplement to Holtec Decommissioning International, LLC (HDI) Request for Exemptions from Certain Emergency Planning Requirements of 10 CFR 50.47 and 10 CFR part 50, appendix E for Indian Point Unit Nos. 1, 2, and 3 Including Site-Specific Calculations,” dated February 1, 2022 | ML22032A017.
NRC Order on Indian Point Nuclear Generating Unit Nos. 1, 2, and 3, Order Approving Transfer of Facility Operating Licenses to Holtec International, Owner, and Holtec Decommissioning International, LLC Operator, dated November 23, 2020 | ML20297A325.
Fleming, Jean A., Holtec Decommissioning International, LLC, letter to NRC, “Revision to Holtec Decommissioning International, LLC (HDI) Request for Exemptions from Certain Emergency Planning Requirements of 10 CFR 50.47 and 10 CFR part 50, Appendix E for Indian Point Unit Nos. 1, 2, and 3,” dated February 2, 2022 | ML22033A348.
Fleming, Jean A., Holtec Decommissioning International, LLC, letter to NRC, “Response to Requests for Additional Information Related to Exemption Request and License Amendment Request to Revise the Facility's Emergency Plan,” dated May 12, 2022 | ML22132A169.
Vitale, Anthony J., Entergy Nuclear Operations, Inc., letter to NRC, “Notification of Permanent Cessation of Power Operations Indian Point Nuclear Generating Unit Nos. 2 and 3, Docket Nos. 50-247 and 50-286, License Nos. DPR-26 and DPR-64,” dated February 8, 2017 | ML17044A004.
Vitale, Anthony J., Entergy Nuclear Operations, Inc., letter to NRC, “Certifications of Permanent Cessation of Power Operations and Permanent Removal of Fuel from the Reactor Vessel Indian Point Nuclear Generating Unit No. 2 NRC, Docket No. 50-247, Renewed Facility Operating License No. DPR-26,” dated May 12, 2020 | ML20133J902.
Vitale, Anthony J., Entergy Nuclear Operations, Inc., letter to NRC, “Certifications of Permanent Cessation of Power Operations and Permanent Removal of Fuel from the Reactor Vessel Indian Point Nuclear Generating Unit No. 3, NRC Docket No. 50-286, Renewed Facility Operating License No. DPR-64,” dated May 11, 2021 | ML21131A157.
U.S. Environmental Protection Agency (EPA), EPA-400/R-17/001, “PAG Manual: Protective Action Guides and Planning Guidance for Radiological Incidents,” January 2017 | ML17044A073.
New York State Energy Research and Development Authority, “Emergency Planning Exemption Request and License Amendment Request for the Indian Point Site,” dated November 22, 2022 | ML22332A048.
New York State Department of Public Service, “Public Statement Hearing regarding the Exemption Requests and License Amendment Requests for the Indian Point Site,” dated January 6, 2023 | ML23009B687.
SECY-22-0102, “Request by Holtec Decommissioning International, LLC for Exemptions from Certain Emergency Planning Requirements for the Indian Point Nuclear Generating Unit Nos. 1, 2, and 3,” dated November 18, 2022 | ML22231A155 (Package).
Staff Requirements Memorandum to SECY-22-0102, “Request by Holtec Decommissioning International, LLC for Exemptions from Certain Emergency Planning Requirements for the Indian Point Nuclear Generating Unit Nos. 1, 2, and 3,” dated October 24, 2023 | ML23297A027.
NUREG-1437, Supplement 38, “Generic Environmental Impact Statement for License Renewal of Nuclear Plants: Regarding Indian Point Nuclear Generating Unit Nos. 2 and 3, Final Report,” December 2010 | https://www.nrc.gov/reading-rm/doc-collections/nuregs/staff/sr1437/supplement38/index.html.

Dated: October 26, 2023.
For the Nuclear Regulatory Commission.
Shaun M. Anderson,
Chief, Reactor Decommissioning Branch, Division of Decommissioning, Uranium Recovery and Waste Programs, Office of Nuclear Material Safety and Safeguards.

[FR Doc. 2023-23971 Filed 10-30-23; 8:45 am]

BILLING CODE 7590-01-P